DEPARTMENT OF ENERGY

Federal Energy Regulatory Commission

[Docket No. EG01-227-000, et al.]

Keystone Power LLC, et al.; Electric Rate and Corporate Regulation Filings

June 12, 2001.

Take notice that the following filings have been made with the Commission:

1. Keystone Power LLC

[Docket No. EG01-227-000]

Take notice that on June 6, 2001, Keystone Power LLC filed with the Federal Energy Regulatory Commission an application for determination of exempt wholesale generator status pursuant to section 32(a)(1) of the Public Utility Holding Company Act of 1935 (PUHCA). The applicant is a limited liability company organized under the laws of the State of Delaware that will acquiring 3.7 percent undivided interests in the Keystone Electric Generating Station in Shelocta, Pennsylvania (Facilities) and sell electric energy at wholesale. The total capacity of the applicant's interest in the Facilities is 63.4 MW. Determinations pursuant to section 32(c) of PUHCA have been received from the State commissions of Delaware, Maryland, and Virginia, and a determination is pending from the State commission of New Jersey.

Comment date: July 3, 2001, in accordance with Standard Paragraph E at the end of this notice. The Commission will limit its consideration of comments to those that concern the adequacy or accuracy of the application.

2. Conemaugh Power LLC

[Docket No. EG01-228-000]

Take notice that on June 6, 2001, Conemaugh Power LLC filed with the Federal Energy Regulatory Commission (Commission) an application for determination of exempt wholesale generator status pursuant to section 32(a)(1) of the Public Utility Holding Company Act of 1935 (PUHCA). The applicant is a limited liability company organized under the laws of the State of Delaware that will be acquiring 3.72 percent undivided interests in the Conemaugh Generating Station in New Florence, Pennsylvania (Facilities) and sell electric energy at wholesale. The total capacity of the applicant's interest in the Facilities is 63.5MW. Determinations pursuant to section 32(c) of PUHCA have been received from the state commissions of Delaware, Maryland, and Virginia, and a determination is pending from the state commission of New Jersey.

Comment date: July 3, 2001, in accordance with Standard Paragraph E at the end of this notice. The Commission will limit its consideration of comments to those that concern the adequacy or accuracy of the application.

3. Travis Energy and Environment, Inc.

[Docket No. ER01-2234-000]

Take notice that on June 6, 2001, Travis Energy and Environment, Inc. (TRAVIS) petitioned the Federal Energy Regulatory Commission (Commission) for acceptance of Travis Energy Rate Schedule FERC No. 1; the granting of certain blanket approvals, including the authority to sell electricity at market-based rates; and the waiver of certain Commission regulations.

TRAVIS intends to engage in wholesale electric power and energy sales as an independent power producer. TRAVIS is constructing an 8 MW diesel generating facility in Clearwater, Idaho (Clearwater Facility). Other than the Clearwater Facility, TRAVIS is not engaged in generating or transmitting electric power. TRAVIS is an S Corporation, organized under the laws of the state of Idaho.

TRAVIS is requesting an effective date of June 15, 2001.

Comment date: June 27, 2001, in accordance with Standard Paragraph E at the end of this notice.

4. Southwest Power Pool, Inc.

[Docket No. ER01-2235-000]

Take notice that on June 6, 2001, Southwest Power Pool, Inc. (SPP) tendered for filing an executed service agreement for Network Integration Transmission Service and an executed Network Operating Agreement with The Board of Public Utilities, Springfield, Missouri (Network Customer).

SPP seeks an effective date of June 1, 2001 for these service agreements.

A copy of this filing was served on the Network Customer.

Comment date: June 27, 2001, in accordance with Standard Paragraph E at the end of this notice.

5. American Transmission Systems, Inc.

[Docket No. ER01-2236-000]

Take notice that on June 6, 2001, American Transmission Systems, Inc. filed a Service Agreement to provide Non-Firm Point-to-Point Transmission Service for Engage Energy America LLC, the Transmission Customer. Services are being provided under the American Transmission Systems, Inc. Open Access Transmission Tariff submitted for filing by the Federal Energy Regulatory Commission in Docket No. ER99-2647-000.

The proposed effective date under the Service Agreement is June 5, 2001 for the Service Agreement.

Comment date: June 27, 2001, in accordance with Standard Paragraph E at the end of this notice.

6. American Transmission Systems, Inc.

[Docket No. ER01-2237-000]

Take notice that on June 6, 2001, American Transmission Systems, Inc. filed a Service Agreement to provide Firm Point-to-Point Transmission Service for Engage Energy America LLC., the Transmission Customer. Services are being provided under the American Transmission Systems, Inc. Open Access Transmission Tariff submitted for filing by the Federal Energy Regulatory Commission in Docket No. ER99-2647-000.

The proposed effective date under the Service Agreement is June 5, 2001 for the above mentioned Service Agreement in this filing.

Comment date: June 27, 2001, in accordance with Standard Paragraph E at the end of this notice.

7. Carolina Power & Light Company

[Docket No. ER01-2238-000]

Take notice that on June 6, 2001, Carolina Power & Light Company (CP&L) tendered for filing an executed Service Agreement between CP&L and the following eligible buyer, CMS Marketing, Services and Trading Company. Service to this eligible buyer will be in accordance with the terms and conditions of CP&L's Market-Based Rates Tariff, FERC Electric Tariff No. 4, for sales of capacity and energy at market-based rates.

CP&L requests an effective date of June 6, 2001 for this Service Agreement.

Copies of the filing were served upon the North Carolina Utilities Commission and the South Carolina Public Service Commission.

Comment date: June 27, 2001, in accordance with Standard Paragraph E at the end of this notice.

8. Exelon Generation Company, LLC

[Docket No. ER01-2239-000]

Take notice that on June 6, 2001, Exelon Generation Company, LLC (Exelon Generation) submitted for filing with the Federal Energy Regulatory Commission (FERC or the Commission) a service agreement for wholesale power sales transactions between Exelon Generation and City of St. Charles, Illinois under Exelon Generation's wholesale power sales tariff, FERC Electric Tariff, Original Volume No. 1.

Exelon Generation requests an effective date of April 1, 2001 for the Service Agreement.

Comment date: June 27, 2001, in accordance with Standard Paragraph E at the end of this notice.

9. Exelon Generation Company, LLC

[Docket No. ER01-2240-000]

Take notice that on June 6, 2001, Exelon Generation Company, LLC (Exelon Generation) submitted for filing with the Federal Energy Regulatory Commission (FERC or the Commission) a service agreement for wholesale power sales transactions between Exelon Generation and City of Batavia, Illinois under Exelon Generation's wholesale power sales tariff, FERC Electric Tariff, Original Volume No. 1.

Exelon Generation request the Service Agreement be made effective as of April 1, 2001.

Comment date: June 27, 2001, in accordance with Standard Paragraph E at the end of this notice.

10. Allegheny Energy Service Corporation, on behalf of Monongahela Power Company, The Potomac Edison Company, and West Penn Power Company (Allegheny Power)

[Docket No. ER01-2241-000]

Take notice that on June 6, 2001, Allegheny Energy Service Corporation on behalf of Monongahela Power Company, The Potomac Edison Company and West Penn Power Company (Allegheny Power), filed Service Agreement Nos. 354 through 357 to add Dynegy Power Marketing, Inc. to Allegheny Power's Open Access Transmission Service Tariff which has been accepted for filing by the Federal Energy Regulatory Commission in Docket No. ER96-58-000.

The proposed effective date under the Service Agreements is May 1, 2002 or a date ordered by the Commission.

Copies of the filing have been provided to the Public Utilities Commission of Ohio, the Pennsylvania Public Utility Commission, the Maryland Public Service Commission, the Virginia State Corporation Commission, and the West Virginia Public Service Commission.

Comment date: June 27, 2001, in accordance with Standard Paragraph E at the end of this notice.

11. California Independent System Operator Corporation

[Docket No. ER01-2252-000]

Take notice that on June 6, 2001, the California Independent System Operator Corporation (ISO) tendered for filing an Interconnected Control Area Operating Agreement (ICAOA) between the ISO and Comisión Federal de Electricidad, in compliance with the Commission's April 27, 2001 letter order in the above-referenced docket and with Order No. 614. The ISO states that it does not now propose any new substantive changes to the ICAOA.

The ISO states that this filing has been served upon all parties in the above-referenced docket.

Comment date: June 27, 2001, in accordance with Standard Paragraph E at the end of this notice.

12. Avista Corporation

[Docket No. ER01-2253-000]

Take notice that on June 7, 2001, Avista Corporation, tendered for filing, with the Federal Energy Regulatory Commission pursuant to 18 CFR 35.13, a Certificate of Concurrence in Puget Sound Energy, Inc.'s filing regarding the 2000-01 Operating Procedures under the Pacific Northwest Coordination Agreement Docket No. ER01-1470-000, previously noticed on March 8, 2001.

Comment date: June 28, 2001, in accordance with Standard Paragraph E at the end of this notice.

13. The Detroit Edison Company

[Docket No. ES01-37-000]

Take notice that on June 5, 2001, The Detroit Edison Company (Detroit Edison) submitted an application pursuant to section 204 of the Federal Power Act seeking authorization to issue long-term debt securities, from time to time, in an aggregate principal not to exceed $1 billion at any one time.

Detroit Edison also requests a waiver of the Commission's competitive bidding and negotiated placement requirements at 18 CFR 34.2.

Comment date: July 3, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-15279 Filed 6-15-01; 8:45 am]

BILLING CODE 6717-01-P